SMALL BUSINESS ADMINISTRATION

[Disaster Declaration #11798 and #11799]

Kansas Disaster #KS-00034

AGENCY: U.S. Small Business Administration.

ACTION: Amendment 1.

SUMMARY: This is an amendment of the Presidential declaration of a major disaster for Public Assistance Only for the State of Kansas (FEMA-1848-DR), dated 06/24/2009.

Incident: Severe Winter Storm and Record and Near Record Snow.

Incident Period: 03/26/2009 through 03/29/2009.

Effective Date: 07/24/2009.

Physical Loan Application Deadline Date: 08/24/2009.

Economic Injury (EIDL) Loan Application Deadline Date: 03/24/2010.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Kansas, dated 06/24/2009, is hereby amended to include the following areas as adversely affected by the disaster.

Primary Counties: Morris.

All other information in the original declaration remains unchanged.

(Catalog of Federal Domestic Assistance Numbers 59002 and 59008)

James E. Rivera,
Acting Associate Administrator for Disaster Assistance.

[FR Doc. E9-18229 Filed 7-30-09; 8:45 am]

BILLING CODE 8025-01-P